DEPARTMENT OF THE INTERIOR

National Park Service

[NPS-WASO-NAGPRA-10345; 2200-1100-665]

Notice of Intent To Repatriate a Cultural Item: San Diego Museum of Man, San Diego, CA

AGENCY: National Park Service, Interior.

ACTION: Notice.

SUMMARY: The San Diego Museum of Man, in consultation with the appropriate Indian tribes, has determined that a cultural item meets the definition of unassociated funerary object and repatriation to the Indian tribes stated below may occur if no additional claimants come forward. Representatives of any Indian tribe that believes itself to be culturally affiliated with the cultural item may contact the San Diego Museum of Man.

DATES: Representatives of any Indian tribe that believes it has a cultural affiliation with the cultural item should contact the San Diego Museum of Man at the address below by July 12, 2012.

ADDRESSES: Philip Hoog, San Diego Museum of Man, San Diego, CA 92101, telephone (619) 239-2001, extension 43.

SUPPLEMENTARY INFORMATION: Notice is here given in accordance with the Native American Graves Protection and Repatriation Act (NAGPRA), 25 U.S.C. 3005, of the intent to repatriate a cultural item in the possession of the San Diego Museum of Man, San Diego, CA, that meets the definition of unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In 1929, one clay pipe (or bow pipe), about five inches in total length, was removed from archeological site SDM-W-1 (as named by archeologist Malcolm Rogers), also known as CA-SDI-39, generally referred to as the Spindrift site, located near the coast of the Pacific Ocean in present day La Jolla, CA. The pottery pipe is a bow-type with a beak-shaped holder and has diamond hatching incised about the bowl. It has a charred appearance, suggesting that it was burned. Shortly after its excavation, Malcolm Rogers transferred the clay pipe to the San Diego Museum of Man, where he was employed at the time.

Malcolm Rogers's 1929 excavation notes state that the pipe was discovered with one associated cremation, however, the cremated human remains do not reside at the Museum of Man. Kumeyaay tradition, confirmed through consultation with Kumeyaay representatives, also dictates that charred objects, such as this pipe, were part of burial offerings and were most likely associated to cremated human remains, most likely a male. Pursuant to 25 U.S.C. 3001(3)(B), the pipe is considered an unassociated funerary object. Clay pipes such as this one typically do not make an appearance in the archeological record until after A.D. 1000. Archeological evidence and Kumeyaay tradition both suggest that the present-day Kumeyaay people of Southern California occupied the area where the pipe was discovered during this period.

Determinations Made by the San Diego Museum of Man

Officials of the San Diego Museum of Man have determined that:

• Pursuant to 25 U.S.C. 3001(3)(B), the one cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the clay pipe and the Kumeyaay Nation, as represented by the Barona Group of Capitan Grande Band of Mission Indians of the Barona Reservation, California; Campo Band of Diegueno Mission Indians of the Campo Indian Reservation, California; Ewiiaapaayp Band of Kumeyaay Indians, California; Iipay Nation of Santa Ysabel, California (formerly the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Sycuan Band of the Kumeyaay Nation; and Viejas (Baron Long) Group of Capitan Grande Band of Mission Indians of the Viejas Reservation, California (hereafter referred to as “The Tribes”).

Additional Requestors and Disposition

Representatives of any other Indian tribe that believes itself to be culturally affiliated with the unassociated funerary object should contact Philip Hoog, San Diego Museum of Man, 1350 El Prado, San Diego, CA 92101, telephone (619) 239-2001, ext. 43 before July 12, 2012. Repatriation of the unassociated funerary object to the Kumeyaay Nation, as represented by The Tribes may proceed after that date if no additional claimants come forward.

The San Diego Museum of Man is responsible for notifying the Kumeyaay Nation, as represented by The Tribes that this notice has been published.

Dated: June 7, 2012.
David Tarler,
Acting Manager, National NAGPRA Program.

[FR Doc. 2012-14299 Filed 6-11-12; 8:45 am]

BILLING CODE 4312-50-P